SMALL BUSINESS ADMINISTRATION

[Disaster Declaration #21102 and #21103; KENTUCKY Disaster Number KY-20020]

Presidential Declaration Amendment of a Major Disaster for the Commonwealth of Kentucky

AGENCY: U.S. Small Business Administration.

ACTION: Correction.

SUMMARY: This is correction of the Presidential declaration of a major disaster for the Commonwealth of Kentucky (FEMA-4875-DR), dated May 23, 2025.

Incident: Severe Storms, Straight-line Winds, and Tornadoes.

DATES: Issued on October 29, 2025.

Incident Period: May 16, 2025, through May 17, 2025.

Physical Loan Application Deadline Date: August 22, 2025.

Economic Injury (EIDL) Loan Application Deadline Date: February 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: The notice of the President's major disaster declaration for the Commonwealth of Kentucky, dated May 23, 2025, and published in the Federal Register on July 31, 2025 at 90 FR 36089 in the second column, is hereby corrected to change the economic injury (EIDL) loan application deadline date to February 23, 2026.

All other information in the original declaration remains unchanged.

(Catalog of Federal Domestic Assistance Number 59008)

(Authority: 13 CFR 1234.3(b).)

James Stallings,
Associate Administrator, Office of Disaster Recovery & Resilience.

[FR Doc. 2025-19751 Filed 10-31-25; 8:45 am]

BILLING CODE 8026-09-P